DEPARTMENT OF ENERGY

Federal Energy Regulatory Commission

[Project No. 15236-000]

Norton Pump Storage, LLC; Notice of Preliminary Permit Application Accepted for Filing and Soliciting Comments, Motions To Intervene, and Competing Applications

On October 1, 2021, Norton Pump Storage, LLC filed an application for a preliminary permit, pursuant to section 4(f) of the Federal Power Act (FPA), proposing to study the feasibility of the Norton Pump Storage Project to be located near the city of Norton, in Summit County and Medina County, Ohio. The sole purpose of a preliminary permit, if issued, is to grant the permit holder priority to file a license application during the permit term. A preliminary permit does not authorize the permit holder to perform any land-disturbing activities or otherwise enter upon lands or waters owned by others without the owners' express permission.

The proposed project would consist of: (1) a new excavated, diked, asphalt-lined 255-acre upper reservoir having a maximum water surface area of about 200 acres and a total volume of 7,800 acre-feet; (2) an existing lower 338-million cubic foot (7,760 acre-feet) underground reservoir created by previous limestone mining activities; (3) a possible diversion channel around the upper reservoir; (4) an underground powerhouse and appurtenant structures including six 250-megawatt variable speed, reversible pump turbines; (5) power plant buildings and surface structures; (6) a 7000-foot-long, 28-foot-diameter concrete-lined power tunnel connected to two 2400-foot-long, 17.5-foot-diameter concrete vertical shafts that are connected to the underground powerhouse; (7) an underground transformer gallery; (8) six 235-foot-long, 6.25-foot-diameter steel-and concrete-lined penstocks; (9) four 345-kilovolt overhead transmission line circuits, 2.4 miles long, arranged in two parallel double circuit tower sets within an existing transmission line corridor located south of the reservoir; and (10) offsite and onsite recreational facilities. The estimated annual generation of the Norton Pump Storage Project would be between 1,300 and 2,000 million kilowatt-hours.

Applicant Contact: Mr. Alain Berger; Norton Pump Storage, LLC; 251 Little Falls Drive, Wilmington, Delaware 19808; phone: (866) 963-8506; ext. 68941.

FERC Contact: Tyrone Williams; phone: (202) 502-6331.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15236-000.

More information about this project, including a copy of the application, can be viewed or printed on the “eLibrary” link of Commission's website at http://www.ferc.gov/docs-filing/elibrary.asp. Enter the docket number (P-15236) in the docket number field to access the document. For assistance, contact FERC Online Support.

Dated: June 2, 2022.
Debbie-Anne A. Reese,
Deputy Secretary.

[FR Doc. 2022-12332 Filed 6-7-22; 8:45 am]

BILLING CODE 6717-01-P